DEPARTMENT OF JUSTICE

National Institute of Corrections

Solicitation for a Cooperative Agreement—Classification of High Risk and Special Management Inmates in Prison Systems

AGENCY: National Institute of Corrections, Department of Justice.

ACTION: Solicitation for a cooperative agreement.

SUMMARY: This cooperative agreement will examine contemporary issues and newer developing topics in prison classification that will concentrate on classification of high risk, aggressive, disruptive and predatory offenders in general population, close custody management units, maximum custody or administrative segregation. This cooperative agreement will also direct attention to special topics such as identification and classification of inmates involved in serious incidents who are mentally ill; assessing risks of younger inmates and sexual predators within prison systems; and application of risk assessment instruments for civil commitments.

The project will encompass offender management, case management and internal classification practices for housing and supervising inmates to promote a safer environment and control serious disruptive behavior. This will include reduction of predatory behavior and assaults on staff or other inmates within the prison setting, and minimizing the need for protective custody and super max or long term segregation placements.

The scope of this project will include but will not be limited to: Conducting research and identifying best policies and practices in prison classification for determining which offenders in general population are the higher risks; determining appropriate levels of supervision and control that are required; determining appropriate housing, program and work assignments; assessing risk to the public as well as to the institution; and examining effective classification and case management methods for transitioning inmates from segregation to general population and from general population to the community at the time of release

Background

The experience of many practitioners and the evidence from available research suggests that within a prison facility, groups of inmates may have the same requirements for a security level but different requirements for supervision and control. For example, some inmates may need confinement in a facility with a secure perimeter but based on their institutional behavior present no serious management problems. Other inmates may be a threat within the facility to other inmates, to staff, or to the orderly operation of the facility.

Better objective classification systems include internal procedures to document and assess institutional misconduct and serious disruptive and assultive behavior, such as escapes, assaults on staff and inmates, and use of weapons, and symptoms of mental illness that need to be clinically assessed, in order to properly classify and provide a safer environment for staff and inmates.

Project Objectives

This project will build capacities in correctional agencies to update and improve objective classification systems by developing better knowledge of research and strategies through appropriate and effective correctional classification practices centered on the identification, classification and management of high risk and special management inmates in prison systems. NIC expects that the project will involve practitioners and correctional experts selected for an Advisory Committee which will assist in identifying the critical concerns of the field; alert the project team to promising classification operational practices; and advise them on what information would be most useful to correctional policy makers, managers and practitioners.

Applications submitted must propose a methodology to involve correctional practitioners in all phases of the effort to strengthen the project's ability to effectively impact correctional policy and operations. The application will also need to identify the people proposed for the Advisory Committee, with at least three individuals who have strong prison operations experience.

Purpose

The purpose of funding this initiative is to conduct research and develop products specifically focused on classification of high risk offenders. These products will include, but will not be limited to, a substantive publication of 100-200 pages and an 8-hour training module, with curriculum and training materials.

The outcomes anticipated from conducting the research and developing the publication and training module are that:

1. Correctional agencies will allocate resources or manage more effectively as a result of objective offender classification systems which promote informed, rational, and consistent decision-making with high-risk offenders.

2. Agencies will be able to better manage and/or reduce offender risks resulting in improved staff, offender, and community safety by using objective classification at key decision points.

3. Agencies will be able to improve information on offender risks and needs and be able to utilize information for planning appropriate intervention strategies as a result of objective classification.

Scope of Work

To address the scope of work, there will need to be a project management team of classification experts that are knowledgeable of correctional operations and principles of objective prison classification; have expertise in assessment, evaluation and validation research; are informed and sensitive to requirements for addressing special needs and management issues; and have demonstrated effectiveness in project management; as well as the ability to write well.

The major components of the work include:

1. Conducting a minimum of two meetings with an Advisory Committee appointed in collaboration and with the approval of NIC to provide a forum for gathering information, feedback and recommendations regarding objective prison classification to address high-risk offenders and inmates who present the most serious management problems and/or disruptive behavior in general population.

2. Identifying current and emerging issues and best practices, and compiling information on correctional research and from correctional agencies on what has been learned and applied successfully regarding sound classification procedures for high risk and special management offenders.

3. Developing an 8-hour training module, the training curriculum, and related training material that can be incorporated into prison classification training programs offered by NIC. At a minimum, this training will:

A. Describe the role of classification in the identification and management of high risk inmates, and reducing disruptive behavior and violence in prison;

B. Highlight findings from research on effective programs and management strategies for high risk inmates and the best practices from the field; and

C. Provide examples of better classification policies and strategies for managing high risk inmates in general population, as well as special management, protective custody and administrative segregation populations.

4. Developing a substantive 100-200 page publication on classification of high risk offenders. In lieu of a single publication, consideration may be given to a proposal for a series of publications dealing with topical issues that could be published together for a comprehensive discussion on classification of high risk offenders.

The publication or publications proposed will require development of a title, description, and format, including objectives and other relevant information sufficient to permit objective review and feedback by the NIC project monitor and selected correctional professionals before formal preparation of the document begins. A bibliography and review of relevant literature will need to be produced in conjunctions with the writing of document(s).

Drafts of documents will be submitted for review by the NIC project monitor and designated correctional professionals within a time frame that will be sufficient for review and revision prior to the conclusion of the project.

In consultation with NIC, documents developed through the cooperative agreement must be submitted as an edited final camera-ready hard copy and 3.5″ computer disk or 100 mg zip drive disk using WordPerfect 7.0 or higher software for use with IBM-compatible computers with Windows operating systems for NIC publication in accordance with the NIC Preparation of Printed Materials for Publication. It will be the responsibility of the award recipient to secure written approval to use copyrighted materials and to provide the original approval with the documents.

If a survey is included in the proposal, the award recipient will be responsible for obtaining written approval in accordance with the Paperwork Reduction Act and providing documentation of that approval prior to conducting a survey. All products from this funding effort will be in the public domain and available to interested parties through the National Institute of Corrections.

The successful applicant will also need to ensure that there will be coordination with the NIC project monitor at critical points in the project development and as necessary to ensure clarity and accomplishment of goals and satisfactory outcomes.

The applicant must provide goals, objectives, and methods of implementation for the project that are consistent with the announcement. Objectives should be clear, measurable, attainable, and focused on the methods used to conduct the project. Applicants should provide an implementation plan for the project and include a schedule which will demonstrate milestones for significant tasks in chart form. Work activities will be coordinated closely with the NIC project monitor. The applicant must plan for the initial meeting with the Advisory Committee to be conducted in the first quarter of the project.

Authority: Public Law 93-415.

Funds Available

The award will be limited to $200,000 (direct and indirect costs) and project activity must begin within 30 days of the date of award and be completed within 12 months. Expenses for conducting the meetings with the Advisory Committee, including their travel, must be incorporated into the proposed budget. No funds will be transferred to state or local governments. Funds may not be used for construction, or to acquire or build real property.

This project will be a collaborative venture with the NIC Prisons Division. All products from this funding effort will be in public domain and available to interested agencies through the National Institute of Corrections.

Deadline for Receipt of Applications

Applications must be received by 4 p.m. on Wednesday, January 10, 2001. They should be addressed to: Director, National Institute of Corrections, 320 First Street NW., Room 5007, Washington, DC 20534. Hand delivered applications should be brought to 500 First Street, NW., Washington, DC 20534. The front desk will call Bobbi Tinsley at (202) 307-3106, extension 0 for pickup.

Addresses and Further Information

Requests for the application kit should be directed to Judy Evens, Cooperative Agreement Control Office, National Institute of Corrections, 320 First Street NW., Room 5007, Washington, DC 20534; or by calling 800-995-6423 ext. 159, 202-307-3106 ext. 159, or e-mail: jevens@bop.gov.

A copy of this announcement, application forms may be obtained through the NIC web site: http://www.nicic.org (click on “Cooperative Agreements”).

All technical and/or programmatic questions concerning this announcement should be directed to Sammie Brown, Program Manager, at 320 First Street, NW., Room 5007, Washington, DC 20534; or by calling 800-995-6423 ext. 126, 202-307-3106 ext. 126, or e-mail: sbrown@bop.gov.

Eligible Applicants

An eligible applicant is any state or general unit of local government, public or private agency, educational institution, organization, team, or individual with the requisite skills to successfully meet the outcome objectives of the project. Collaborative teams involving practitioners, researchers, and other individuals with expertise and experience in specialized prison classification functional areas are encouraged.

Review Considerations

Applications received under this announcement will be subjected to an NIC Peer Review Process.

Number of Awards

One (1).

NIC Application Number

01P09. This number should appear as a reference line in your cover letter and also in box 11 of Standard Form 424.

Catalog of Federal Domestic Assistance Number

16.602.

Executive Order 12372

This project is not subject to the provisions of Executive Order 12372.

Dated: November 17, 2000.
Larry B. Solomon,
Deputy Director, National Institute of Corrections.

[FR Doc. 00-30034 Filed 11-22-00; 8:45 am]

BILLING CODE 4410-36-M